ENVIRONMENTAL PROTECTION AGENCY

[FRL-9667-5]

Notice of Approval of Clean Air Act Outer Continental Shelf Permits Issued to Shell Offshore, Inc. for the Kulluk Conical Drilling Unit

AGENCY: United States Environmental Protection Agency (EPA) Region 10.

ACTION: Notice of final action.

SUMMARY: This notice announces that EPA Region 10 has issued a final permit decision granting a Clean Air Act Outer Continental Shelf (OCS) permit to construct and Title V air quality operating permit to Shell Offshore, Inc. (“Shell”) for operation of the Kulluk conical drilling unit in the Beaufort Sea off the north coast of Alaska.

DATES: EPA Region 10 issued a final permit decision on the OCS permit for Shell's operation of the Kulluk drilling unit in the Beaufort Sea on April 12, 2012. The permit also became effective on that date. Pursuant to section 307(b)(1) of the Clean Air Act, 42 U.S.C. 7607(b)(1), judicial review of this permit decision, to the extent it is available, may be sought by filing a petition for review in the United States Court of Appeals for the Ninth Circuit by July 9, 2012.

ADDRESSES: The documents relevant to the above-referenced permits are available for public inspection during normal business hours at the following address: U.S. Environmental Protection Agency, Region 10, 1200 Sixth Avenue Suite 900, Seattle, WA 98101. To arrange for viewing of these documents, call Dan Meyer at (206) 553-4150.

FOR FURTHER INFORMATION CONTACT: Dan Meyer, Office of Air Waste and Toxics, U.S. Environmental Protection Agency, Region 10, 1200 6th Avenue, Suite 900, Seattle, WA 98101. Anyone who wishes to review the EPA Environmental Appeals Board (EAB) decision described below can obtain it at http://www.epa.gov/eab/.

Notice of Final Action and Supplementary Information: EPA Region 10 issued a final permit decision to Shell authorizing air emissions associated with the operation of the Kulluk conical drilling unit to conduct exploratory drilling operations in the Beaufort Sea, OCS Permit No. R10OCS30000 (“Kulluk permit”). The Kulluk permit was initially issued by EPA Region 10 on October 21, 2011. The EPA's Environmental Appeals Board (EAB) received three petitions for review of the Shell Kulluk permit from the following entities: (1) The Inupiat Community of the Arctic Slope; (2) Resisting Environmental Destruction of Indigenous Lands, Alaska Wilderness League, Center for Biological Diversity, Natural Resources Defense Council, Northern Alaska Environmental Center, Ocean Conservancy, Oceana, Pacific Environment, Sierra Club, and the Wilderness Society; and (3) Mr. Daniel Lum. On March 30, 2012, the EAB issued an order denying review of all three petitions. See In re Shell Offshore, Inc., OCS Appeal Nos. 11-05, 11-06 & 11-07 (EAB, Mar. 30, 2011) (Order Denying Petitions for Review). All conditions of the Kulluk permit, as initially issued by Region 10 on October 21, 2011, are final and effective. Pursuant to 40 CFR 71.11(l)(5) and 124.19(f)(1), final agency action by EPA has occurred because agency review procedures before the EAB have been exhausted and EPA has issued final permit decisions.

Dated: April 23, 2012.
Richard Albright,
Director, Office of Air, Waste, and Toxics.

[FR Doc. 2012-11042 Filed 5-7-12; 8:45 am]

BILLING CODE 6560-50-P